DEPARTMENT OF TRANSPORTATION

Federal Aviation Administration

14 CFR Part 39

[Docket No. FAA-2004-19089; Directorate Identifier 2000-CE-38-AD]

RIN 2120-AA64

Airworthiness Directives; Raytheon Aircraft Company 90, 99, 100, 200, and 300 Series Airplanes

AGENCY: Federal Aviation Administration (FAA), DOT.

ACTION: Notice of proposed rulemaking (NPRM).

SUMMARY: The FAA proposes to supersede Airworthiness Directive (AD) 98-15-13, which applies to certain Raytheon Aircraft Company 90, 100, 200, and 300 series airplanes. This proposed supersedure adds the Raytheon Beech 99 series to the applicability listed in AD 98-15-13. No change in the compliance action is proposed for those aircraft originally affected by AD 98-15-13. AD 98-15-13 currently requires you to check the airplane maintenance records from January 1, 1994, up to and including the effective date of that AD, for any MIL-H-6000B fuel hose replacements on the affected airplanes; inspecting any replaced rubber fuel hose for a spiral or diagonal external wrap with a red or orange-red stripe along the length of the hose with 94519 printed along the stripe; and replacing any MIL-H-6000B rubber fuel hose matching this description with an FAA-approved hose having a criss-cross or braided external wrap. We are issuing this proposed AD to prevent fuel flow interruption, which could lead to uncommanded loss of engine power and loss of control of the airplane.

DATES: We must receive any comments on this proposed AD by November 18, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, S.W., Nassif Building, Room PL-401, Washington, DC 20590-001.

• Fax: 1-202-493-2251.

• Hand Delivery: Room PL-401 on the plaza level of the Nassif Building, 400 Seventh Street, S.W., Washington, DC, between 9 a.m. and 5 p.m., Monday through Friday, except Federal holidays.

To get the service information identified in this proposed AD, contact Raytheon Aircraft Company, P.O. Box 85, Wichita, Kansas 67201-0085; telephone: (800) 625-7043.

To view the comments to this proposed AD, go to http://dms.dot.gov. This is docket number FAA-2004-19089.

FOR FURTHER INFORMATION CONTACT: Jeffrey A. Pretz, Aerospace Engineer, ACE-116W, 1801 Airport Road, Room 100, Wichita, Kansas 67209; telephone: (316) 946-4153; facsimile: (316) 946-4407.

SUPPLEMENTARY INFORMATION:

Comments Invited

How do I comment on this proposed AD? We invite you to submit any written relevant data, views, or arguments regarding this proposal. Send your comments to an address listed under ADDRESSES. Include the docket number, “FAA-2004-19089; Directorate Identifier 2000-CE-38-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2004-19089. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Blockage of fuel hoses due to hose delamination on certain Raytheon Aircraft Company 90, 100, 200, and 300 series airplanes caused us to issue AD 98-15-13, Amendment 39-10664 (63 FR 38295-98, July 16, 1998). AD 98-15-13 currently requires the following on the affected airplanes:

—Checking the airplane maintenance records from January 1, 1994, up to and including the effective date of the AD, for any MIL-H-6000B fuel hose replacements on the affected airplanes;

—Inspecting any replaced rubber fuel hose for a spiral or diagonal external wrap with a red or orange-red stripe along the length of the hose with 94519 printed along the stripe; and

—Replacing any MIL-H-6000B rubber fuel hose matching this description with an FAA-approved hose having a criss-cross or braided external wrap

What has happened since AD 98-15-13 to initiate this proposed action? The FAA has evaluated the design of the Raytheon Beech 99 series airplanes and determined that they could incorporate the same fuel hoses. Therefore, we have determined that the 99 series airplanes should be added to the applicability of these actions.

What is the potential impact if FAA took no action? Fuel flow interruption could lead to uncommanded loss of engine power and loss of control of the airplane.

Is there service information that applies to this subject? Raytheon has issued Service Bulletin SB 2718, Rev. 1, dated June 1997, and Service Bulletin SB 2718, Rev. 2, dated April 2000.

What are the provisions of this service information? The service bulletin includes procedures for:

—Replacing all MIL-H-6000B rubber fuel hoses on the affected airplanes that were manufactured from January 1, 1994;

—Inspecting the affected airplanes that were manufactured prior to January 1, 1994, for any MIL-H-6000B rubber fuel hoses that have been replaced;

—Removing the MIL-H-6000B replacement hoses that have a spiral or diagonal exterior wrap and a red or red-orange stripe with the manufacturer code, 94519; and

—Replacing the hose with a hose that has a criss-cross or braided type of external wrap for all affected airplanes.

FAA's Determination and Requirements of This Proposed AD

What has FAA decided? We have evaluated all pertinent information and identified an unsafe condition that is likely to exist or develop on other products of this same type design. For this reason, we are proposing AD action.

What would this proposed AD require? This proposed AD would supersede AD 98-15-13 with a new AD that would incorporate the actions in the previously-referenced service bulletin. The actions and compliance of AD 98-15-13 would remain the same, and the Raytheon Beech 99 Series airplanes would be added to the applicability.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 5,107 airplanes in the U.S. registry. AD 98-15-13 affected an estimated 4,868 airplanes; this proposed AD will add an estimated 239 airplanes to the number of affected airplanes.

What would be the cost impact of this proposed AD on owners/operators of the affected airplanes? We estimate the following costs to accomplish this proposed inspection:

Labor cost | Total cost per airplane | Total cost on U.S. operators
1 work hour × $65 = $65 | $65 | $331,955

What is the difference between the cost impact of this proposed AD and the cost impact of AD 98-15-13? We estimate the following costs to accomplish this proposed inspection for the Raytheon Beech 99 Series airplanes:

Labor cost | Total cost per airplane | Total cost on U.S. operators
1 work hour × $65 = $65 | $65 | $15,535

Raytheon Aircraft Company will provide warranty credit for parts and replacement as specified in the service information.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. FAA-2004-19089” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD)

98-15-13, Amendment 39-10664 (63 FR 38295-98, July 16, 1998), and by adding a new AD to read as follows:

Raytheon Aircraft Company: Docket No. FAA-2004-19089; Directorate Identifier 2000-CE-38-AD

When Is the Last Date I Can Submit Comments on This Proposed AD?

(a) We must receive comments on this proposed airworthiness directive (AD) by November 18, 2004.

What Other ADs Are Affected by This Action?

(b) This AD supersedes AD 98-15-13, Amendment 39-10664.

What Airplanes Are Affected by This AD?

(c) This AD affects the following airplane models and serial numbers that are certificated in any category:

Model | Series
(1) 65-90 | LJ-1 through LJ-75, and LJ-77 through LJ-113.
(2) 65-A90 | LJ-76, LJ-114 through LJ-317, and LJ-178A.
(3) B90 | LJ-318 through LJ-501.
(4) C90 | LJ-502 through LJ-1062.
(5) C90A | LJ-1063 through LJ-1287, LJ-1289 through LJ-1294, and.
| LJ-1296 through LJ-1299.
(6) C90B | LJ-1288, LJ-1295, and LJ-1300 through LJ-1445.
(7) E90 | LW-1 through LW-347.
(8) F90 | LA-2 through LA-236.
(9) H90 | LL-1 through LL-61.
(10) 100 | B-2 through B-89, and B-93.
(11) A100 | B-1, B-90 through B-92, B-94 through B-204, and B-206 through B-247.
(12) A100-1 (RU-21J) | BB-3 through BB-5.
(13) B100 | BE-1 through BE-137.
(14) 200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-735 through BB-792, BB-794 through BB-797, BB-799 through BB-822, BB-824 through BB-828, BB-830 through BB-853, BB-872, BB-873, BB-892, BB-893, and BB-912.
(15) 200C | BL-1 through BL-23, and BL-25 through BL-36.
(16) 200CT | BN-1.
(17) 200T | BT-1 through BT-BT-22, and BT-28.
(18) A200 | BC-1 through BC-75, and BD-1 through BD-30.
(19) A200C | BJ-1 through BJ-66.
(20) A200CT | BP-1, BP-7 through BP-11, BP-22, BP-24 through BP-63, FC-1 through FC-3, FE-1 through FE-36, and GR-1 through GR-19.
(21) B200 | BB-829, BB-854 through BB-870, BB-874 through BB-891, BB-894, BB-896 through BB-911, BB-913 through BB-990, BB-992 through BB-1051, BB-1053 through BB-1092, BB-1094, BB-1095, BB-1099 through BB-1104, BB-1106 through BB-1116, BB-1118 through BB-1184, BB-1186 through BB-1263, BB-1265 through BB-1288, BB-1290 through BB-1300, BB-1302 through BB-1425, BB-1427 through BB-1447, BB-1449, BB-1450, BB-1452, BB-1453, BB-1455, BB-1456, and BB-1458 through BB-1536.
(22) B200C | BL-37 through BL-57, BL-61 through BL-140, BU-1 through BU-10, BV-1 through BV-12, and BW-1 through BW-21.
(23) B200CT | BN-2 through BN-4, BU-11, BU-12, FG-1, and FG-2.
(24) B200T | BT-23 through BT-27, and BT-29 through BT-38.
(25) 300 | FA-1 through BA-230, and FF-1 through FF-19.
(26) B300 | FL-1 through FL-141.
(27) B300C | FM-1 through FM-9, and FN-1.
(28) 99, 99A, A99, A99A | U-1 through U-49, U-51 through U-145, and U-147.
(29) B99 | U-146, and U-148 through U-164.
(30) C99 | U-50, and U-165 through U-239.

What Is the Unsafe Condition Presented in This AD?

(d) This AD is the result of blockage of fuel hose due to hose delamination. The actions specified in this AD are intended to prevent fuel flow interruption, which could lead to uncommanded loss of engine power and loss of control of the airplane.

What Must I do to Address This Problem?

(e) To address this problem, you must do the following:

Actions | Compliance | Procedures
(1) For airplanes manufactured prior to January 1, 1994, check airplane maintenance records for any MIL-H-6000B fuel hose replacement from January 1, 1994, up to and including the effective date of this AD | For all affected airplanes other than Models 99, 99A, A99, A99A, B99, and C99: Within 200 hours time-in-service (TIS) after August 28, 1998 (the effective date of AD 98-15-13). For all affected Models 99, 99A, A99, A99A, B99, and C99 airplanes: Within the next 200 hours TIS after the effective date of this AD | Documented compliance with AD 98-15-13 or follow PART II of the ACCOMPLISHMENT INSTRUCTIONS section in Raytheon Aircraft Mandatory Service Bulletin SB 2718, Revision 1, dated June 1997; or Revision 2, dated April 2000. An owner/operator holding at least a private pilot certificate as authorized by section 43.7 of the Federal Aviation Regulations 914 CFR 43.7, and must be entered into the aircraft records showing compliance with this AD in accordance with section 43.7 of the Federal Aviation Regulations (14 CFR 43.9) can accomplish paragraph (e)(1) required by this AD.
(2) If the airplane records show that an MIL-H-6000B fuel hose has been replaced, inspect the airplane fuel hoses for a 3.8-inch-wide red or orange-red, length-wise stripe, with manufacturer's code, 94519, printed periodically along the line in red letters on one side. The hoses have a spiral or diagonal outer wrap with a fabric-type texture on the rubber surface | For all affected airplanes other than the Models 99, 99A, A99, A99A, B99, and C99: Within 200 hours time-in-service (TIS) after August 28, 1998 (the effective date of AD 98-15-13). For all affected Models 99, 99A, A99, A99A, B99, and C99 airplanes: Within the next 200 hours TIS after the effective date of this AD | Documented compliance with AD 98-15-13 or follow PART II of the ACCOMPLISHMENT INSTRUCTIONS section in Raytheon Aircraft Mandatory Service Bulletin SB 2718, Revision 1, dated June 1997; or Revision 2, dated April 2000.
(3) Replace any fuel hose that matches the description in paragraph (e)(2) of this AD with an FAA-approved MIL-H-6000B fuel hose that has a criss-cross or braided external wrap | For all affected airplanes other than the Models 99, 99A, A99, A99A, B99, and C99: Within 200 hours time-in-service (TIS) after August 28, 1998 (the effective date of AD 98-15-13). For all affected Models 99, 99A, A99, A99A, B99, and C99 airplanes: Within the next 200 hours TIS after the effective date of this AD | Documented compliance with AD 98-15-13 or follow PART II of the ACCOMPLISHMENT INSTRUCTIONS section in Raytheon Aircraft Mandatory Service Bulletin SB 2718, Revision 1, dated June 1997; or Revision 2, dated April 2000.
(4) For Raytheon Models C90A, B200, and B300 airplanes that were manufactured on January 1, 1994, and after, replace the MIL-H-6000B fuel hoses | Within 200 hours time-in-service (TIS) after August 28, 1998 (the effective date of AD 98-15-13) | Documented compliance with AD 98-15-13 or follow PART I of the ACCOMPLISHMENT INSTRUCTIONS section in Raytheon Aircraft Mandatory Service Bulletin SB 2718, Revision 1, dated June 1997; or Revision 2, dated April 2000.
(5) No one shall install a rubber fuel hose having spiral or diagonal external wrap with a 3/8-inch-wide red or orange-red, length-wise stripe running down the side of the hose, with the manufacturer's code, 94519, printed periodically along the line in red letters on any of the affected airplanes | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Jeffrey A. Pretz, Aerospace Engineer, ACE-116W, 1801 Airport Road, Room 100, Wichita, Kansas 67209; telephone: (316) 946-4153; facsimile: (316) 946-4407.

May I Get Copies of the Documents Referenced in This AD?

(g) To get copies of the documents referenced in this AD, contact Raytheon Aircraft Company, P.O. Box 85, Wichita, Kansas 67201-0085; telephone: (800) 625-7043. To view the AD docket, go to the Docket Management Facility; U.S. Department of Transportation, 400 Seventh Street, SW., Nassif Building, Room PL-401, Washington, DC, or on the Internet at http://dms.dot.gov. The docket number is FAA-2004-19089.

Issued in Kansas City, Missouri, on October 5, 2004.
Dorenda D. Baker,
Manager, Small Airplane Directorate, Aircraft Certification Service.

[FR Doc. 04-23028 Filed 10-13-04; 8:45 am]

BILLING CODE 4910-13-P